DEPARTMENT OF VETERANS AFFAIRS

Joint Biomedical Laboratory Research and Development and Clinical Science Research and Development Services Scientific Merit Review Board Notice of Meetings Amended

The Department of Veterans Affairs (VA) gives notice under Federal Advisory Committee Act that the subcommittees of the Joint Biomedical Laboratory Research and Development and Clinical Science Research and Development Services Scientific Merit Review Board (JBL/CS SMRB) will meet from 8 a.m. to 5 p.m. on the dates indicated below (unless otherwise listed):

Subcommittee | Date | Location
Oncology-C | May 16-17, 2018 | 20 F Conference Center.
Nephrology | May 17, 2018 | Phoenix Park Hotel.
Hematology | May 18, 2018 | 20 F Conference Center.
Oncology-A/D | May 18, 2018 | 20 F Conference Center.
Cellular & Molecular Medicine | May 21, 2018 | 20 F Conference Center.
Endocrinology-B | May 21, 2018 | * VA Central Office.
Oncology-B | May 21, 2018 | 20 F Conference Center.
Neurobiology-C | May 22, 2018 | 20 F Conference Center.
Infectious Diseases-B | May 23, 2018 | Training Development Center.
Surgery | May 23, 2018 | 20 F Conference Center.
Cardiovascular Studies-A | May 24, 2018 | 20 F Conference Center.
Infectious Diseases-A | May 24, 2018 | * VA Central Office.
Immunology & Dermatology-A | May 30, 2018 | 20 F Conference Center.
Neurobiology-B | May 30, 2018 | 20 F Conference Center.
Oncology-E | May 30, 2018 | * VA Central Office.
Gulf War Research | May 31, 2018 | * VA Central Office.
Pulmonary Medicine | May 31, 2018 | 20 F Conference Center.
Endocrinology-A | June 1, 2018 | 20 F Conference Center.
Neurobiology-A | June 1, 2018 | 20 F Conference Center.
Neurobiology-E | June 1, 2018 | 20 F Conference Center.
Special Emphasis Panel on Million Veteran Prog Proj | June 5, 2018 | * VA Central Office.
Gastroenterology | June 6, 2018 | 20 F Conference Center.
Mental Health & Behavioral Sciences-A | June 6, 2018 | * VA Central Office.
Neurobiology-F | June 6, 2018 | * VA Central Office.
Cardiovascular Studies-B | June 7, 2018 | 20 F Conference Center.
Epidemiology | June 7, 2018 | * VA Central Office.
Mental Health & Behavioral Sciences-B | June 7, 2018 | 20 F Conference Center.
Neurobiology-D | June 8, 2018 | 20 F Conference Center.
Eligibility | July 16, 2018 | 20 F Conference Center.
* Teleconference.

The addresses of the meeting sites are:

20 F Conference Center, 20 F Street NW, Washington, DC

Phoenix Park Hotel, 520 North Capital Street NW, Washington, DC

Training Development Center, 400 Maryland Avenue SW, Washington, DC

VA Central Office, 1100 First Street NE, Suite 600, Washington, DC

The purpose of the subcommittees is to provide advice on the scientific quality, budget, safety and mission relevance of investigator-initiated research proposals submitted for VA merit review evaluation. Proposals submitted for review include various medical specialties within the general areas of biomedical, behavioral and clinical science research.

These subcommittee meetings will be closed to the public for the review, discussion, and evaluation of initial and renewal research proposals, which involve reference to staff and consultant critiques of research proposals. Discussions will deal with scientific merit of each proposal and qualifications of personnel conducting the studies, the disclosure of which would constitute a clearly unwarranted invasion of personal privacy. Additionally, premature disclosure of research information could significantly obstruct implementation of proposed agency action regarding the research proposals. As provided by subsection 10(d) of Public Law 92-463, as amended by Public Law 94-409, closing the subcommittee meetings is in accordance with Title 5 U.S.C. 552b(c)(6) and (9)(B).

Those who would like to obtain a copy of the minutes from the closed subcommittee meetings and rosters of the subcommittee members should contact Holly Krull, Ph.D., Manager, Merit Review Program (10P9B), Department of Veterans Affairs, 810 Vermont Avenue NW, Washington, DC 20420, at (202) 632-8522 or email at holly.krull@va.gov.

Dated: May 3, 2018.
LaTonya L. Small,
Federal Advisory Committee Management Officer.

[FR Doc. 2018-09724 Filed 5-7-18; 8:45 am]

BILLING CODE 8320-01-P